DEPARTMENT OF THE INTERIOR

Fish and Wildlife Service

Endangered Species Recovery Permit Applications

AGENCY: Fish and Wildlife Service, Interior.

ACTION: Notice of receipt of permit applications; request for comment.

SUMMARY: We invite the public to comment on the following applications to conduct certain activities with endangered species.

DATES: Comments on these permit applications must be received on or before August 22, 2007.

ADDRESSES: Written data or comments should be submitted to the U.S. Fish and Wildlife Service, Endangered Species Program Manager, California/Nevada Operations Office (CNO), 2800 Cottage Way, Room W-2606, Sacramento, California, 95825 (telephone: 916-414-6464; fax: 916-414-6486). Please refer to the respective permit number for each application when submitting comments. All comments received, including names and addresses, will become part of the official administrative record and may be made available to the public.

FOR FURTHER INFORMATION CONTACT: Daniel Marquez, Fish and Wildlife Biologist, at the above CNO address, (telephone: 760-431-9440; fax: 760-431-9624).

SUPPLEMENTARY INFORMATION: The following applicants have applied for scientific research permits to conduct certain activities with endangered species pursuant to section 10(a)(1)(A) of the Endangered Species Act (16 U.S.C. 1531 et seq.). The U.S. Fish and Wildlife Service (“we”) solicits review and comment from local, State, and Federal agencies, and the public on the following permit requests. Before including your address, phone number, e-mail address, or other personal identifying information in your comment, you should be aware that your entire comment—including your personal identifying information—may be made publicly available at any time. While you can ask us in your comment to withhold your personal identifying information from public review, we cannot guarantee that we will be able to do so.

Permit No. TE-154960

Applicant: James P. Henke, Galt, California

The applicant requests a permit to take (capture, and collect and kill) the Conservancy fairy shrimp (Branchinecta conservatio), the longhorn fairy shrimp (Branchinecta longiantenna), the vernal pool tadpole shrimp (Lepidurus packardi), the Riverside fairy shrimp (Streptocephalus wootoni), and the San Diego fairy shrimp (Branchinecta sandiegonensis) in conjunction with surveys throughout the range of each species in California for the purpose of enhancing their survival.

Permit No. TE-154963

Applicant: Robert K. Bates, San Clemente, California.

The applicant requests a permit to take (harass by survey) the Coastal California gnatcatcher (Polioptila californica) in conjunction with surveys throughout the range of the species in California, and take (harass by survey) the Southwestern willow flycatcher (Empidonax traillii extimus) in conjunction with surveys throughout the range of the species in California, Arizona, and Nevada, for the purpose of enhancing their survival.

Permit No. TE-154966

Applicant: Stewart Reid, Ashland, Oregon

The applicant requests a permit to take (survey, capture, handle, collect biological samples and voucher specimens, salvage and relocate, pit tag, and release) the Modoc sucker (Catostomus microps) in conjunction with surveys and demographic studies in Lassen and Modoc Counties, California, and Lake County, Oregon for the purpose of enhancing its survival.

Permit No. TE-040239

Applicant: SWCA Environmental Consultants, Salt Lake City, Utah

The applicant requests an amendment to take (harass by survey) the Southwestern willow flycatcher (Empidonax traillii extimus) in conjunction with surveys in Clark, Lincoln, and Nye Counties, Nevada for the purpose of enhancing its survival.

Permit No. TE-045994

Applicant: United States Geological Survey, San Diego, California

The applicant requests a permit to take (survey, capture, handle, mark, collect biological samples, and release) the pacific pocket mouse (Perognathus longimembris pacificus) in conjunction with ecological research and surveys within San Diego and Orange Counties, California for the purpose of enhancing its survival.

Permit No. TE-103595

Applicant: Greg A. Lomnicky, Corvallis, California

The permittee requests an amendment to take (capture and translocate) the Lost River sucker (Deltistes luxatus) and the shortnose sucker (Chasmistes brevirostris) in conjunction with salvage in Klamath County, Oregon for the purpose of enhancing their survival.

Permit No. TE-155721

Applicant: Margaret Sherriffs, Davis, California

The applicant requests an amendment to take (harass by survey) the California clapper rail (Rallus longirostris obsoletus) in conjunction with surveys in Sonoma, Napa, Solano, and Contra Costa Counties, California for the purpose of enhancing its survival.

Permit No. TE-157291

Applicant: National Park Service, Paicines, California

The applicant requests a permit to take (capture; mark; collect blood and feathers; captive rear; and release) the California condor (Gymnogyps califonianus) in conjunction with ecological research and other life history studies throughout the range of the species in San Benito, Monterey, Santa Cruz, Fresno, and San Luis Counties, California for the purpose of enhancing its survival.

Permit No. TE-157199

Applicant: Julie Stout, San Diego, California

The applicant requests an amendment to take (harass by survey and monitor) the California least tern (Sterna antillarum browni) in conjunction with surveys and other life history studies throughout the range of the species in California for the purpose of enhancing its survival.

Permit No. TE-157216

Applicant: U.S. Geological Survey, Dixon, California

The applicant requests a permit to take (harass by survey, capture, and mark) the San Francisco garter snake (Thamnophis sirtalis tetrataenia) in conjunction with surveys and monitoring activities throughout the range of the species in California, for the purpose of enhancing its survival.

Permit No. TE-157221

Applicant: University of California, Berkley, California

The applicant requests a permit to take (capture, mark, and release) the giant kangaroo rat (Dipodomys engens) in conjunction with surveys throughout the range of the species in California for the purpose of enhancing its survival.

We solicit public review and comment on each of these recovery permit applications. Our practice is to make comments, including names and home addresses of respondents, available for public review during regular business hours. Individual respondents may request that we withhold their home addresses from the record, which we will honor to the extent allowable by law. There also may be circumstances in which we would withhold from the record a respondent's identity, as allowable by law. If you wish us to withhold your name and/or address, you must state this prominently at the beginning of your comment, but you should be aware that we may be required to disclose your name and address pursuant to the Freedom of Information Act. However, we will not consider anonymous comments. We will make all submissions from organizations or businesses, and from individuals identifying themselves as representatives or officials of organizations or businesses, available for public inspection in their entirety. Comments and materials received will be available for public inspection, by appointment, during normal business hours at the above address.

Dated: July 17, 2007.
Michael Fris,
Acting Manager, California/Nevada Operations Office, Sacramento, California.

[FR Doc. E7-14146 Filed 7-20-07; 8:45 am]

BILLING CODE 4310-55-P